DEPARTMENT OF TRANSPORTATION

Federal Aviation Administration

Notice of Submission Deadline for Schedule Information for O'Hare International Airport, John F. Kennedy International Airport, and Newark Liberty International Airport for the Winter 2011-2012 Scheduling Season

AGENCY: Department of Transportation, Federal Aviation Administration (FAA).

ACTION: Notice of submission deadline.

SUMMARY: Under this notice, the FAA announces the submission deadline of May 19, 2011, for Winter 2011-2012 flight schedules at Chicago's O'Hare International Airport (ORD), New York's John F. Kennedy International Airport (JFK), and Newark Liberty International Airport (EWR) in accordance with the International Air Transport Association (IATA) Worldwide Scheduling Guidelines. The deadline coincides with the schedule submission deadline for the IATA Schedules Conference for the Winter 2011-2012 scheduling season.

DATES: Schedules must be submitted no later than May 19, 2011.

ADDRESSES: Schedules may be submitted by mail to the Slot Administration Office, AGC-200, Office of the Chief Counsel, 800 Independence Ave., SW., Washington, DC 20591; facsimile: 202-267-7277; or by e-mail to: 7-AWA-slotadmin@faa.gov.

FOR FURTHER INFORMATION CONTACT: Robert Hawks, Office of the Chief Counsel, Federal Aviation Administration, 800 Independence Avenue, SW., Washington, DC 20591; telephone number: 202-267-7143; fax number: 202-267-7971; e-mail: rob.hawks@faa.gov.

SUPPLEMENTARY INFORMATION: The FAA has designated ORD as an IATA Level 2, Schedules Facilitated Airport, and JFK and EWR as Level 3, Coordinated Airports. Scheduled operations at JFK and EWR are limited by the FAA Orders, the extension to which are published in today's Federal Register, until the FAA publishes a final Congestion Management Rule for LaGuardia Airport, John F. Kennedy International Airport, and Newark Liberty International Airport (RIN 2120-AJ89).

The FAA is primarily concerned about planned passenger and cargo operations during peak hours but carriers may submit schedule plans for the entire day. At ORD, the peak hours are 7 a.m. to 9 p.m. Central Time (1300-0300 UTC) and at EWR and JFK from 6 a.m. to 11 p.m. Eastern Time (1100-0400 UTC). Carriers should submit schedule information in sufficient detail including, at minimum, the operating carrier, flight number, scheduled time of operation, frequency, and effective dates. IATA standard schedule information format and data elements (Standard Schedules Information Manual) may be used.

The U.S. winter scheduling season for these airports is from October 30, 2011, through March 24, 2012, in recognition of the IATA scheduling season dates. The FAA understands there may be differences in schedule times due to different U.S. daylight saving time dates, and these will be accommodated to the extent possible.

Issued in Washington, DC, on March 28, 2011.
Rebecca B. MacPherson,
Assistant Chief Counsel for Regulations.

[FR Doc. 2011-7844 Filed 4-1-11; 8:45 am]

BILLING CODE 4910-13-P